SMALL BUSINESS ADMINISTRATION

National Women's Business Council; Notice of Public Meeting

In accordance with the Women's Business Ownership Act, Public Law 106-554 as amended, the National Women's Business Council (NWBC) would like to announce a forthcoming Council meeting. The meeting will be held on Wednesday, September 19, 2007, starting at 8:30 a.m. to 1 p.m. at the U.S. Small Business Administration, Eisenhower Conference Rooms A&B, 409 Third Street, SW., Second Floor, Washington, DC 20024.

The purpose of the meeting is to discuss the NWBC's fiscal year 2007 and 2008 projects, congressional briefing on U.S. Small Business Administration/Entrepreneurial Development reauthorization, legislative updates, and swearing-in of new members.

Anyone wishing to attend the Council meeting should contact Emily Reynolds no later than Monday, September 17, 2007 by e-mail at Emily.reynolds@nwbc.gov or fax to 202-205-6825. Anyone wishing to make a presentation to the Council during the meeting must contact Margaret M. Barton in writing at the National Women's Business Council, 409 Third Street, SW., Suite 210, Washington, DC 20024, by e-mail at Margaret.barton@nwbc.gov or fax to 202-205-6825 by Friday, September 7, 2007, in order to be put on the agenda. The meeting is open to the public, and attendance is by RSVP only.

Matthew Teague,
Committee Management Officer.

[FR Doc. E7-15307 Filed 8-6-07; 8:45 am]

BILLING CODE 8025-01-P